SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before June 21, 2022.

ADDRESSES: Send all comments via email to PPP-IFR@sba.gov, with the Subject “SBA Form 3173 Comments”.

FOR FURTHER INFORMATION CONTACT: Adrienne Grierson, Small Business Administration, Office of Financial Program Operations, adrienne.grierson@sba.gov or, or Agency Clearance Officer Curtis B. Rich, curtis.rich@sba.gov, (202) 205-7030, Small Business Administration.

SUPPLEMENTARY INFORMATION: SBA received funds under the American Rescue Plan Act of 2021 (ARP Act), Public Law 117-2, title V, sec. 5003 (March 11, 2021), to provide direct funds to Eating and Drinking establishments that meet certain conditions. Specifically, Section 5003 of the ARP Act establishes the Restaurant Revitalization Fund (RRF) program to provide direct funds of up to $10 million dollars and limited to $5 million dollars per location to certain eligible persons or entities: A restaurant, food stand, food truck, food cart, caterer, saloon, inn, tavern, bar, lounge, brewpub, tasting room, taproom, licensed facility or premise of a beverage alcohol producer where the public may taste, sample, or purchase products, or other similar place of business in which the public or patrons assemble for the primary purpose of being served food or drink. Section 5003(c)(6) of the ARP Act requires recipients to return to the Treasury any funds that the recipient did not use for allowable expenses by the end of the covered period, or if the recipient permanently ceased operations, not later than March 11, 2023. SBA plans to update Form 3173, RRF Post Award Report, to include a new reporting category for funds returned to SBA.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0424.

(1) Title: Restaurant Revitalization Fund Program Post Award Report.

Description of Respondents: Direct funding to Eating and Drinking establishments that meet certain conditions.

Form Number: SBA Form 3173.

Total Estimated Annual Responses: 131,306.

Total Estimated Annual Hour Burden: 63,127.

Curtis Rich,
Agency Clearance Officer.

[FR Doc. 2022-08526 Filed 4-20-22; 8:45 am]

BILLING CODE 8026-03-P